DEPARTMENT OF TRANSPORTATION

Office of the Secretary

14 CFR Chapters I, II, and III

23 CFR Chapters I, II, and III

46 CFR Chapter II

48 CFR Chapter 12

49 CFR Chapters I, II, III, V, VI, VII, VIII, X, and XI

[Docket No. DOT-OST-2017-0069]

Notification of Regulatory Review

AGENCY: Office of the Secretary (OST); Department of Transportation (DOT).

ACTION: Regulatory review; reopening of comment period.

SUMMARY: The U.S. Department of Transportation (the Department or DOT) is reopening the comment period for its Notification of Regulatory Review for 30 days. The comment period ends November 1, 2017. The reopened comment period will end December 1, 2017.

DATES: The comment period for the document published on October 2, 2017 (82 FR 45750), is reopened. Responses should be filed by December 1, 2017. The Department will continue to check the docket for late filed responses after the comment period closes.

ADDRESSES: You may file responses identified by the docket number DOT-OST-2017-0069 by any of the following methods:

• Federal eRulemaking Portal: Go to http://www.regulations.gov and follow the online instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9:00 a.m. and 5:00 p.m. ET, Monday through Friday, except Federal holidays.

• Fax: (202) 493-2251.

Instructions: You must include the agency name and docket number DOT-OST-2017-0069 at the beginning of your submission. All submissions received will be posted without change to http://www.regulations.gov, including any personal information provided.

Privacy Act: Anyone is able to search the electronic form of all submissions received in any of our dockets by the name of the individual submitting the document (or signing the submission, if submitted on behalf of an association, business, labor union, etc.). You may review DOT's complete Privacy Act statement in the Federal Register published on April 11, 2000 (65 FR 19477-78), or you may visit http://DocketsInfo.dot.gov.

Docket: For access to the docket to read background documents and comments received, go to http://www.regulations.gov or to the street address listed above. Follow the online instructions for accessing the docket.

FOR FURTHER INFORMATION CONTACT: Jonathan Moss, Assistant General Counsel for Regulation, U.S. Department of Transportation, 1200 New Jersey Avenue SE., Washington, DC 20590, 202-366-4723 (phone), jonathan.moss@dot.gov (email) or Barbara McCann, Director, Office of Policy Development, Strategic Planning and Performance, U.S. Department of Transportation, 1200 New Jersey Avenue SE., Washington, DC 20590, 202-366-8016 (phone), barbara.mccann@dot.gov (email).

SUPPLEMENTARY INFORMATION: On October 2, 2017 the U.S. Department of Transportation (the Department or DOT) issued a Notification of Regulatory Review seeking comment from the public on existing rules and other agency actions that are good candidates for repeal, replacement, suspension, or modification. DOT provided a 30 day comment period for responses to that document. We have received requests for extension of the comment period, including one from the American Bus Association requesting a 90 day extension from the date of issuance of the document. The Owner-Operator Independent Drivers Association requested a 30 day extension from the initial close of the comment period and the Countryside Tank Company, NJP Engineering LLC, and Container Technology Incorporated requested an extension of 90 days from the initial close of the comment period.

In response, the Department is reopening the comment period for its Notification of Regulatory Review for 30 days. The comment period ends November 1, 2017. The reopened comment period will end December 1, 2017. Additionally, DOT will continue to check the docket for late filed comments after the comment period closes.

Issued this 30th day of October, 2017, in Washington, DC.
James C. Owens,
Acting General Counsel.

[FR Doc. 2017-23964 Filed 11-2-17; 8:45 am]

BILLING CODE 4910-9X-P